DEPARTMENT OF THE INTERIOR

Fish and Wildlife Service

[FWS-R9-MB-2008-N0110; 91200-1231-9BPP-L2]

Migratory Bird Hunting and Permits; Harvest of Light Goose Populations

AGENCY: Fish and Wildlife Service, Interior.

ACTION: Notice of authorization of regulations managing the harvest of light goose populations.

SUMMARY: This notice advises the public that we authorize States in the Atlantic, Mississippi, and Central Flyways to implement regulations for managing the harvest of light goose populations. The regulations for this harvest are published elsewhere in today's Federal Register.

DATES: This notice will go into effect on December 5, 2008.

ADDRESSES: You can obtain a copy of the Final Environmental Impact Statement (FEIS) for the light goose regulations by writing to the Division of Migratory Bird Management, 4401 N. Fairfax Drive, MBSP-4107, Arlington, VA 22203; by e-mailing us at LightGooseEIS@fws.gov; or by calling us at (703) 358-1714. The FEIS has been posted on our Web site at http://www.fws.gov/migratorybirds/issues/snowgse/tblcont.html.

FOR FURTHER INFORMATION CONTACT: Robert Blohm, Chief, Division of Migratory Bird Management, (703) 358-1714; or James Kelley (612) 713-5409.

SUPPLEMENTARY INFORMATION:

Background

Various populations of light geese (greater and lesser snow geese and Ross' geese) have undergone rapid growth during the past 30 years and have become seriously injurious to their habitat, habitat important to other migratory birds, and agricultural interests. Because we believe that several of these populations have exceeded the long-term carrying capacity of their breeding and/or migration habitats and must be reduced, on October 12, 2001, we proposed regulations for the management of light goose populations (66 FR 52077). We published a notice of availability of our final environmental impact statement (FEIS) on light goose management on July 13, 2007 (72 FR 38576). The FEIS describes five alternatives for managing light goose populations and analyzes the direct, indirect, and cumulative impacts related to each alternative. The Record of Decision and final rule associated with the FEIS and this notice are published elsewhere in this issue of the Federal Register. In the final rule, we have provided the NEPA and Endangered Species Act considerations pertaining to this notice.

I have made a determination that the population estimate of 1,019,000 greater snow geese (U.S. Fish and Wildlife Service 2007a) has exceeded the Atlantic Flyway Council and North American Waterfowl Management Plan goal of 500,000 birds by 103%; that the population continues to grow at a rate of approximately 8%/year; and that special conservation actions that continue to be conducted in Canada are insufficient to reduce the population. The Service estimates that new regulations for controlling the greater snow goose population will result in a 41% increase in harvest in the U.S. (U.S. Fish and Wildlife Service 2007b). Approximately 32,700 snow geese were harvested in the U.S. portion of the Atlantic Flyway in 2006 (U.S. Fish and Wildlife Service 2007c).

I have also made a determination that the 2007 winter index of 3.09 million midcontinent light geese (lesser snow and Ross's geese, combined) in the Mississippi and Central Flyways has exceeded our management goal of 1.6 million birds by 93% (U.S. Fish and Wildlife Service 2007a). During 1955-1998 the number of midcontinent light geese increased at an annual rate of 3.7%. The number of geese declined at a rate of 2.7% during 1998-2006 when regulations were implemented via the Arctic Tundra Habitat Emergency Conservation Act (Pub. L. 106-108) to reduce the number of light geese (U.S. Fish and Wildlife Service 2007b). This notice will authorize light goose regulations similar to those authorized by the Arctic Tundra Habitat Emergency Conservation Act in an effort to reduce the midcontinent light goose population to the management goal. During 1999-2005, light goose harvest during the regular season and conservation orders in the U.S. portion of the Mississippi and Central Flyways ranged from 1.1 to 1.5 million birds (U.S. Fish and Wildlife Service 2007c). The Service expects that this range of harvest will be maintained by authorizing light goose regulations through this notice. These regulations will complement special snow goose conservation actions that continue to be conducted in Canada.

Per 50 CFR 21.60(e) of the final rule, we provide notice that we authorize the following States to implement regulations for managing the harvest of light goose populations:

Atlantic flyway states | Mississippi flyway states | Central flyway states
Connecticut | Alabama | Colorado
Delaware | Arkansas | Kansas
Florida | Illinois | Montana
Georgia | Indiana | Nebraska
Maine | Iowa | New Mexico
Maryland | Kentucky | North Dakota
Massachusetts | Louisiana | Oklahoma
New Hampshire | Michigan | South Dakota
New Jersey | Minnesota | Texas
New York | Missouri | Wyoming
North Carolina | Mississippi
Pennsylvania | Ohio
Rhode Island | Tennessee
South Carolina | Wisconsin
Vermont
Virginia
West Virginia

Literature Cited

U.S. Fish and Wildlife Service. 2007a. Waterfowl population status, 2007. U.S. Department of the Interior, Washington, DC U.S.A.

U.S. Fish and Wildlife Service. 2007b. Final Environmental Impact Statement: Light goose management. U.S. Department of the Interior, Washington, DC U.S.A.

U.S. Fish and Wildlife Service. 2007c. Migratory bird hunting activity and harvest during the 2005 and 2006 hunting seasons: Preliminary estimates. U.S. Department of the Interior, Washington, DC U.S.A.

Dated: July 24, 2008.
Kenneth Stansell,
Acting Director.

Editorial Note: This document was received in the Office of the Federal Register on October 29, 2008.

[FR Doc. E8-26168 Filed 11-4-08; 8:45 am]

BILLING CODE 4310-55-P